DEPARTMENT OF TRANSPORTATION

Federal Aviation Administration

14 CFR Part 39

[Docket No. FAA-2024-1301; Project Identifier AD-2024-00035-T; Amendment 39-23001; AD 2025-06-13]

RIN 2120-AA64

Airworthiness Directives; The Boeing Company Airplanes

AGENCY: Federal Aviation Administration (FAA), DOT.

ACTION: Final rule; correction.

SUMMARY: The FAA is correcting an airworthiness directive (AD) that was published in the Federal Register. The AD applies to certain The Boeing Company Model 787-9 and 787-10 airplanes. As published, a reference to the Alternative Methods of Compliance (AMOCs) paragraph in the regulatory text is incorrect. This document corrects that error. In all other respects, the original document remains the same.

DATES: This correction is effective July 2, 2025. The effective date of AD 2025-06-13 remains July 2, 2025.

The Director of the Federal Register approved the incorporation by reference of a certain publication listed in this AD as of July 2, 2025 (90 FR 22442, May 28, 2025).

ADDRESSES:

AD Docket: You may examine the AD docket at regulations.gov by searching for and locating Docket No. FAA-2024-1301; or in person at Docket Operations between 9 a.m. and 5 p.m., Monday through Friday, except Federal holidays. The AD docket contains this final rule, any comments received, and other information. The street address for Docket Operations is listed above.

Material Incorporated by Reference:

• For Boeing material identified in this AD, contact Boeing Commercial Airplanes, Attention: Contractual & Data Services (C&DS), 2600 Westminster Blvd., MC 110-SK57, Seal Beach, CA 90740-5600; telephone 562-797-1717; website myboeingfleet.com.

• You may view this material at the FAA, Airworthiness Products Section, Operational Safety Branch, 2200 South 216th St., Des Moines, WA. For information on the availability of this material at the FAA, call 206-231-3195. It is also available at regulations.gov under Docket No. FAA-2024-1301.

FOR FURTHER INFORMATION CONTACT: Joseph Hodgin, Aviation Safety Engineer, FAA, 2200 South 216th St., Des Moines, WA 98198; phone: 206-231-3962; email: Joseph.J.Hodgin@faa.gov.

SUPPLEMENTARY INFORMATION:

Background

AD 2025-06-13, Amendment 39-23001 (90 FR 22442, May 28, 2025) (AD 2025-06-13), requires replacing the incorrectly manufactured floor beam side-of-body fittings, inspecting the fuselage frame and fastener holes for damage, and repairing any damage for certain The Boeing Company Model 787-9 and 787-10 airplanes. For some repairs, AD 2025-06-13 requires using a method approved in accordance with the FAA's AMOC procedures.

Need for Correction

As published, a reference to the AMOC paragraph in the regulatory text of AD 2025-06-13 is incorrect. Paragraph (h)(2) of AD 2025-06-13 inadvertently referred to paragraph (i) of the AD (“Credit for Previous Actions”) instead of paragraph (j) of the AD (“Alternative Methods of Compliance (AMOCs)”).

Material Incorporated by Reference Under 1 CFR Part 51

The FAA reviewed Boeing Alert Requirements Bulletin B787-81205-SB530084-00 RB, Issue 002, dated September 5, 2024. This material specifies performing an X-ray fluorescence spectrometer inspection or a high frequency eddy current inspection of the floor beam side-of-body fittings between station 1233 and station 1593 to determine whether the fitting was manufactured with type design grade 5 Ti-6AI-4V material. Alternatively, operators may replace all floor beam side-of-body fittings between station 1233 and station 1593 with fittings made of the correct material without performing an inspection. For any floor beam side-of-body fitting that needs replacement, this material specifies inspecting the fuselage frame and fuselage fastener holes for damage, repairing any damage, and installing a floor beam side-of-body fitting made of the correct material.

This material is reasonably available because the interested parties have access to it through their normal course of business or by the means identified in the ADDRESSES section.

Correction of Publication

This document corrects an error and correctly adds the AD as an amendment to 14 CFR 39.13. Although no other part of the preamble or regulatory information has been corrected, the FAA is publishing the entire rule in the Federal Register.

The effective date of this AD remains July 2, 2025.

Since this action only corrects a reference to the AMOC paragraph, it has no adverse economic impact and imposes no additional burden on any person. Therefore, the FAA has determined that notice and public comment procedures are unnecessary.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Corrected]

2. The FAA amends § 39.13 by adding the following new airworthiness directive:

2025-06-13 The Boeing Company: Amendment 39-23001; Docket No. FAA-2024-1301; Project Identifier AD-2024-00035-T.

(a) Effective Date

This airworthiness directive (AD) is effective July 2, 2025.

(b) Affected ADs

None.

(c) Applicability

This AD applies to The Boeing Company Model 787-9 and 787-10 airplanes, certificated in any category, as identified in Boeing Alert Requirements Bulletin B787-81205-SB530084-00 RB, Issue 002, dated September 5, 2024.

(d) Subject

Air Transport Association (ATA) of America Code 53, Fuselage.

(e) Unsafe Condition

This AD was prompted by reports that some floor beam side-of-body fittings have been manufactured with an incorrect material type between station 1233 and station 1593. The FAA is issuing this AD to address the floor beam side-of-body fittings that do not meet type design and prevent failure of the fittings. The unsafe condition, if not addressed, could result in the inability of the surrounding principal structure elements to sustain limit loads and damage to critical systems under the floor; these conditions could cause loss of control of the airplane. Additionally, in the event of an emergency landing or full certified rapid decompression, failure of multiple adjacent fittings could result in the inability of the passenger floor grid to maintain the loads and could result in serious injury or impeded egress for passengers.

(f) Compliance

Comply with this AD within the compliance times specified, unless already done.

(g) Required Actions

Except as specified in paragraph (h) of this AD: At the applicable times specified in the “Compliance” paragraph of Boeing Alert Requirements Bulletin B787-81205-SB530084-00 RB, Issue 002, dated September 5, 2024, do all applicable actions identified in, and in accordance with, the Accomplishment Instructions of Boeing Alert Requirements Bulletin B787-81205-SB530084-00 RB, Issue 002, dated September 5, 2024.

Note 1 to paragraph (g): Guidance for accomplishing the actions required by this AD can be found in Boeing Alert Service Bulletin B787-81205-SB530084-00, Issue 002, dated September 5, 2024, which is referred to in Boeing Alert Requirements Bulletin B787-81205-SB530084-00 RB, Issue 002, dated September 5, 2024.

(h) Exceptions to Service Information Specifications

(1) Where the “Boeing Recommended Compliance Time” column in the tables under the “Compliance” paragraph of Boeing Alert Requirements Bulletin B787-81205-SB530084-00 RB, Issue 002, dated September 5, 2024, refers to “the Issue 001 date of Requirements Bulletin B787-81205-SB530084-00 RB,” this AD requires using the effective date of this AD.

(2) Where Boeing Alert Requirements Bulletin B787-81205-SB530084-00 RB, Issue 002, dated September 5, 2024, specifies contacting Boeing for repair instructions, this AD requires doing the repair before further flight using a method approved in accordance with the procedures in paragraph (j) of this AD.

(3) Where footnote [2] in Tasks 3, 5, 8, 10, 13, 15, 18, 20, 23, 25, 28, 31, 33, 36, 38, 41, 43, 46, 48, 51, 53, and 56 of Boeing Alert Requirements Bulletin B787-81205-SB530084-00 RB, Issue 002, dated September 5, 2024, uses the phrase “Chamfer edges of fastener holes common to the SOB fitting,” for this AD, replace that phrase with “Chamfer edges of fastener holes common to the fuselage frame, once installed.”

(i) Credit for Previous Actions

This paragraph provides credit for the actions specified in paragraph (g) of this AD, if those actions were performed before the effective date of this AD using Boeing Alert Requirements Bulletin B787-81205-SB530084-00 RB, Issue 001, dated December 8, 2023.

(j) Alternative Methods of Compliance (AMOCs)

(1) The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (k)(1) of this AD. Information may be emailed to: AMOC@faa.gov.

(2) Before using any approved AMOC, notify your appropriate principal inspector, or lacking a principal inspector, the manager of the responsible Flight Standards Office.

(3) An AMOC that provides an acceptable level of safety may be used for any repair, modification, or alteration required by this AD if it is approved by The Boeing Company Organization Designation Authorization (ODA) that has been authorized by the Manager, AIR-520, Continued Operational Safety Branch, FAA, to make those findings. To be approved, the repair method, modification deviation, or alteration deviation must meet the certification basis of the airplane, and the approval must specifically refer to this AD.

(k) Related Information

(1) For more information about this AD, contact Joseph Hodgin, Aviation Safety Engineer, FAA, 2200 South 216th St., Des Moines, WA 98198; phone: 206-231-3962; email: Joseph.J.Hodgin@faa.gov.

(2) Material identified in this AD that is not incorporated by reference is available at the address specified in paragraph (l)(4) of this AD.

(l) Material Incorporated by Reference

(1) The Director of the Federal Register approved the incorporation by reference (IBR) of the material listed in this paragraph under 5 U.S.C. 552(a) and 1 CFR part 51.

(2) You must use this material as applicable to do the actions required by this AD, unless this AD specifies otherwise.

(3) The following material was approved for IBR on July 2, 2025 (90 FR 22442, May 28, 2025).

(i) Boeing Alert Requirements Bulletin B787-81205-SB530084-00 RB, Issue 002, dated September 5, 2024.

(ii) [Reserved]

(4) For service information, contact Boeing Commercial Airplanes, Attention: Contractual & Data Services (C&DS), 2600 Westminster Blvd., MC 110-SK57, Seal Beach, CA 90740-5600; telephone 562-797-1717; website myboeingfleet.com.

(5) You may view this material at the FAA, Airworthiness Products Section, Operational Safety Branch, 2200 South 216th St., Des Moines, WA. For information on the availability of this material at the FAA, call 206-231-3195.

(6) You may view this material at the National Archives and Records Administration (NARA). For information on the availability of this material at NARA, visit www.archives.gov/federal-register/cfr/ibr-locations or email fr.inspection@nara.gov.

Issued on June 3, 2025.
Lona C. Saccomando,
Acting Deputy Director, Integrated Certificate Management Division, Aircraft Certification Service.

[FR Doc. 2025-10316 Filed 6-5-25; 8:45 am]

BILLING CODE 4910-13-P